DEPARTMENT OF AGRICULTURE

Food Safety Inspection Service

[Docket No. 03-028N]

National Advisory Committee on Microbiological Criteria for Foods

AGENCY: Food Safety and Inspection Service, USDA.

ACTION: Notice of public meeting; request for comments.

SUMMARY: The National Advisory Committee on Microbiological Criteria for Foods (NACMCF) will hold public meetings of the full committee on August 20 & 22, 2003. The committee will discuss: (1) Protocols for FSIS ongoing microbiological baseline studies of raw meat and poultry products, (2) performance standards for broilers (young chickens)/ground chicken, (3) the scientific basis for establishing safety-based “use by” date labeling for refrigerated, ready-to-eat foods, and (4) scientific criteria for redefining pasteurization. Subcommittees will also meet as follows:

August 19th—Concurrent sessions of:

• Microbiological Performance Standards for Broilers (young chicken)/Ground Chicken; an additional new topic will be discussed: reviewing new FSIS protocols for conducting ongoing microbiological baseline studies of raw meat and poultry products.

• Scientific Criteria for Redefining Pasteurization.

August 20th—Microbiological Performance Standards for Broilers (young chicken)/Ground Chicken; an additional new topic will be discussed: Reviewing new FSIS protocols for conducting ongoing microbiological baseline studies of raw meat and poultry products.

August 21st—Criteria for Shelf-Life Based on Safety.

DATES: The full Committee will hold open meetings on Wednesday, August 20, 2003, from 8:30 a.m.-10:30 a.m., and on Friday, August 22, 2003, from 8:30 a.m.-12 noon. Subcommittee meetings will be held on Tuesday, Wednesday, and Thursday, August 19, 20, and 21, 2003. Subcommittee meetings are open to the public.

ADDRESSES: The August 19-22 sub- and full-committee meetings will be held at the Hotel Monaco, Athens Room, 700 F Street NW., Washington, DC 20004, telephone number (202) 628-7177 or (877) 205-5411. Public comments and all documents related to full committee meetings will be available for public inspection in the FSIS Docket Room between 8:30 a.m. and 4:30 p.m., Monday through Friday. The comments and NACMCF documents will also be available on the Internet at http://www.fsis.usda.gov/OPPDE/rdad/Publications.htm.

FSIS will complete a meeting agenda on or before the meeting date and post it on its Internet Web page. Send an original and two copies of comments to the Food Safety and Inspection Service Docket Room: Docket #03-028N, Room 102 Cotton Annex Building, 300 12th Street, SW., Washington, DC 20250. Comments may also be sent by facsimile to (202) 205-0381. The comments and official transcripts of the meeting, when they become available, will be kept in the FSIS Docket Room at the above address. FSIS intends to post all comments associated with this docket on its Web page in the near future. FSIS reserves the right to redact any offensive language that may have been included in these public comments. The uncensored text will be made available in the FSIS Docket Room. See the disclaimer section below regarding modifications that may be necessary due to the presentation of the comments.

FOR FURTHER INFORMATION CONTACT: Persons interested in making a presentation, submitting technical papers, or providing comments should contact Karen Thomas (202) 690-6620, Fax (202) 690-6334, e-mail address: karen.thomas@fsis.usda.gov, or mailing address: Food Safety and Inspection Service, Department of Agriculture, Office of Public Health and Science, Aerospace Center, Room 333, 1400 Independence Avenue, SW., Washington, DC 20250-3700.

Persons requiring a sign language interpreter or other special accommodations should notify Ms. Thomas, by August 12, 2003.

SUPPLEMENTARY INFORMATION:

Background

The NACMCF was established on March 18, 1988, in order to provide an interagency approach to microbiological criteria for food. The NACMCF was established in response to recommendations from the National Academy of Sciences, and from the U.S. House of Representatives Committee on Appropriations, as expressed in the Rural Development, Agriculture, and Related Agencies Appropriation Bill for fiscal year 1988. The Charter for the NACMCF is available for viewing on the FSIS Internet Web page at http://www.fsis.usda.gov/OA/programs/nacmcf_chart.htm.

The NACMCF provides scientific advice and recommendations to the Secretary of Agriculture and the Secretary of Health and Human Services on public health issues involving the safety and wholesomeness of the U.S. food supply. NACMCF advice and recommendations include development of microbiological criteria and review and evaluation of epidemiological and risk assessment data and methodologies for assessing microbiological hazards in foods. The Committee also provides advice to the Centers for Disease Control and Prevention and the Departments of Commerce and Defense.

Dr. Merle Pierson, Deputy Under Secretary for Food Safety, USDA, is the Committee Chair, Dr. Robert E. Brackett, Director of Food Safety and Security, Center for Food Safety and Applied Nutrition, Food and Drug Administration, is the Vice-Chair, and Gerri Ransom, FSIS, is the Executive Secretary.

At the meetings of August 20 and 22, 2003, the full Committee will discuss:

• The added topic of reviewing protocols for FSIS ongoing microbiological baseline studies of raw meat and poultry products;

• The next phase of work regarding performance standards for broilers (young chickens)/ground chicken;

• Continuing work on the scientific basis for establishing safety-based “use by” date labeling for refrigerated, ready-to-eat foods; and

• New work on the scientific criteria for redefining pasteurization.

Documents Reviewed by NACMCF

FSIS intends to make available to the public all materials that are reviewed and considered by NACMCF regarding its deliberations. Generally, these materials will be made available as soon as possible after the full committee meeting. Further, FSIS intends to make these materials available in both electronic format on the FSIS web page, as well as hard copy format in the docket room. Whenever possible given time constraints, FSIS tries to make materials available at the start of the full committee meeting.

Disclaimer: Electronic copies of NACMCF documents and comments are conversions from a variety of source formats into HTML, a process that may result in character translation or format errors. Readers are cautioned not to rely on this HTML document. Minor changes to materials in electronic format may be necessary in order to meet the Web Accessibility Act requirement in which graphs, charts, and tables must be accompanied by a text descriptor in order for the hearing impaired to be made aware of the content. FSIS will add these text descriptors along with a qualifier that the text is a simplified interpretation of the graph, chart, or table. Portable Document Format (PDF) and/or paper documents of the official text, figures, and tables can be obtained from the FSIS Docket Room.

Copyrighted documents will not be posted on the FSIS Web site but are available for inspection in the FSIS docket room.

Additional Public Notification

Public awareness of all segments of rulemaking and policy development is important. Consequently, in an effort to ensure that minorities, women, and persons with disabilities are aware of this notice, FSIS will announce it and make copies of this Federal Register publication available through the FSIS Constituent Update. FSIS provides a weekly Constituent Update, which is communicated via listserv, a free e-mail subscription service. In addition, the update is available online through the FSIS Web page located at: http://www.fsis.usda.gov. The update is used to provide information regarding FSIS policies, procedures, regulations, Federal Register notices, FSIS public meetings, industry recalls, and any other types of information that could affect or would be of interest to our constituents/stakeholders. The constituent listserv consists of industry, trade, and farm groups, consumer interest groups, allied health professionals, scientific professionals, and other individuals that have requested to be included. Through the listserv and Web page, FSIS is able to provide information to a much broader, more diverse audience.

For more information contact the Congressional and Public Affairs Office, at (202) 720-9113. To be added to the free e-mail subscription service (listserv) go to the “Constituent Update” page on the FSIS Web site at http://www.fsis.usda.gov/oa/update/update.htm. Click on the “Subscribe to the Constituent Update Listserv” link, then fill out and submit the form.

Done at Washington, DC, on: August 1, 2003.
Linda Swacina,
Acting Administrator.

[FR Doc. 03-20010 Filed 8-5-03; 8:45 am]

BILLING CODE 3410-DM-P